DEPARTMENT OF TRANSPORTATION

Federal Motor Carrier Safety Administration

[Docket No. FMCSA-2015-0052]

Qualification of Drivers; Exemption Applications; Vision

AGENCY: Federal Motor Carrier Safety Administration (FMCSA), DOT.

ACTION: Notice of applications for exemptions; request for comments.

SUMMARY: FMCSA announces receipt of applications from 34 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before July 22, 2015. All comments will be investigated by FMCSA. The exemptions will be issued the day after the comment period closes.

ADDRESSES: You may submit comments bearing the Federal Docket Management System (FDMS) Docket No. FMCSA-2015-0052 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Charles A. Horan, III, Director, Carrier, Driver and Vehicle Safety Standards, (202) 366-4001, fmcsamedical@dot.gov, FMCSA, Department of Transportation, 1200 New Jersey Avenue SE., Room W64-224, Washington, DC 20590-0001. Office hours are from 8:30 a.m. to 5 p.m., Monday through Friday, except Federal holidays. If you have questions regarding viewing or submitting material to the docket, contact Docket Services, telephone (202) 366-9826.

SUPPLEMENTARY INFORMATION:

I. Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 34 individuals listed in this notice have each requested such an exemption from the vision requirement in 49 CFR 391.41(b)(10), which applies to drivers of CMVs in interstate commerce. Accordingly, the Agency will evaluate the qualifications of each applicant to determine whether granting an exemption will achieve the required level of safety mandated by statute.

II. Qualifications of Applicants

Robert J. Bickel

Mr. Bickel, 60, has had amblyopia in his left eye since 1996. The visual acuity in his right eye is 20/20, and in his left eye, 20/400. Following an examination in 2015, his optometrist stated, “His vision is 20/20 in the better eye and has sufficient vision to operate a commercial vehicle.” Mr. Bickel reported that he has driven straight trucks for 13 years, accumulating 130,000 miles. He holds a Class CA CDL from Michigan. His driving record for the last 3 years shows no crashes and one conviction for a moving violation in a CMV; he disobeyed a stop sign.

Steven J. Brauer

Mr. Brauer, 61, has complete loss of vision in his left eye since 1972. The visual acuity in his right eye is 20/20, and in his left eye, counting fingers. Following an examination in 2014, his ophthalmologist stated, “Mr. Brauer has sufficient vision to perform driving tasks required to operate a commercial vehicle.” Mr. Brauer reported that he has driven straight trucks for 35 years, accumulating 630,000 miles. He holds an operator's license from New Jersey. His driving record for the last 3 years shows one crash, for which he was not cited and to which he did not contribute, and no convictions for moving violations in a CMV.

Steven R. Brinegar

Mr. Brinegar, 34, has a retinal detachment in his left eye due to a traumatic incident in 1999. The visual acuity in his right eye is 20/25, and in his left eye, light perception. Following an examination in 2015, his optometrist stated, “Mr. Brinegar has sufficient vision to perform the driving tasks required to operate a commercial vehicle in my opinion.” Mr. Brinegar reported that he has driven straight trucks for one year, accumulating 20,000 miles, and tractor-trailer combinations for four years, accumulating 320,000 miles. He holds a Class A CDL from Texas. His driving record for the last 3 years shows no crashes and no convictions for moving violations in a CMV.

Garry D. Burkholder

Mr. Burkholder, 58, has corneal scarring and Descemet's folds in his left eye due to a traumatic incident during childhood. The visual acuity in his right eye is 20/20, and in his left eye, 20/400. Following an examination in 2015, his ophthalmologist stated, “In my medical opinion, he has been driving for the last 40 years without any issues and I believe that with the use of his right eye and his left eye for some peripheral vision, he should have enough vision to operate a commercial vehicle which he has done safely in the past.” Mr. Burkholder reported that he has driven straight trucks for 10 years, accumulating 300,000 miles, and tractor-trailer combinations for 35 years, accumulating 2.1 million miles. He holds a Class A CDL from Pennsylvania. His driving record for the last 3 years shows no crashes and no convictions for moving violations in a CMV.

Orlando A. Cabrera

Mr. Cabrera, 50, has had retinal detachment in his left eye since 1991. The visual acuity in his right eye is 20/20, and in his left eye, no light perception. Following an examination in 2014, his optometrist stated, “Although Mr. Cabrera is a monocular subject, I feel that he does have adequate vision to drive a commercial vehicle.”

Mr. Cabrera reported that he has driven straight trucks for 11 years, accumulating 229,075 miles. He holds an operator's license from Florida. His driving record for the last 3 years shows no crashes and no convictions for moving violations in a CMV.

Dennis W. Cosens, Jr.

Mr. Cosens, 39, has had congenital amblyopia in his left eye since childhood. The visual acuity in his right eye is 20/20, and in his left eye, 20/200. Following an examination in 2015, his optometrist stated, “It is my determination that Mr. Dennis Cosens is able to perform tasks required to operate a commercial vehicle.” Mr. Cosens reported that he has driven straight trucks for 20 years, accumulating 800,000 miles. He holds an operator's license from New Mexico. His driving record for the last 3 years shows no crashes and no convictions for moving violations in a CMV.

Rodney R. Dawson

Mr. Dawson, 50, has had a prosthetic left eye since 2009. The visual acuity in his right eye is 20/25, and in his left eye, no light perception. Following an examination in 2014, his ophthalmologist stated, “Mr. Dawson has asked that I provide the information as it pertains to his DOT physical related to his visual results . . . Pt. [sic] does have sufficient visual acuity w/the right eye to perform duties with caution.”

Mr. Dawson reported that he has driven straight trucks for 12 years, accumulating 432,000 miles. He holds an operator's license from Kentucky. His driving record for the last 3 years shows no crashes and no convictions for moving violations in a CMV.

David S. Devine

Mr. Devine, 56, has corneal scarring in his left eye due to a traumatic incident in 1984. The visual acuity in his right eye is 20/20, and in his left eye, 20/60. Following an examination in 2014, his optometrist stated, “He has sufficient functional vision to operate safely a commercial vehicle.” Mr. Devine reported that he has driven straight trucks for 11.5 years, accumulating 460,000 miles. He holds a Class A CDL from Idaho. His driving record for the last 3 years shows no crashes and no convictions for moving violations in a CMV.

Lenton L. Dunston, Jr.

Mr. Dunston, 70, has had amblyopia with exotropia in his left eye since birth. The visual acuity in his right eye is 20/40, and in his left eye, 20/400. Following an examination in 2015, his ophthalmologist stated, “In my medical opinion, the patient has sufficient vision to preform [sic] the driving tasks required to operate a commercial vehicle.” Mr. Dunston reported that he has driven straight trucks for 2 years, accumulating 4,000 miles, and tractor-trailer combinations for 20 years, accumulating two million miles. He holds a Class A CDL from Virginia. His driving record for the last 3 years shows no crashes and no convictions for moving violations in a CMV.

Raymond C. Favreau

Mr. Favreau, 50, has had amblyopia in his right eye since childhood. The visual acuity in his right eye is 20/60, and in his left eye, 20/20. Following an examination in 2015, his optometrist stated, “Mr. Favreau has been amblyopic in his right eye since very early childhood. He has been driving commercial vehicles for years without a problem.” Mr. Favreau reported that he has driven straight trucks for 25 years, accumulating 1.63 million miles. He holds a Class A CDL from Vermont. His driving record for the last 3 years shows no crashes and no convictions for moving violations in a CMV.

William J. Gargiulo

Mr. Gargiulo, 55, has had amblyopia in his left eye since birth. The visual acuity in his right eye is 20/20, and in his left eye, 20/50. Following an examination in 2014, his ophthalmologist stated, “I certify that in my medical opinion, patient William Gargiulo has sufficient vision to perform the driving tasks required to operate a commercial vehicle.” Mr. Gargiulo reported that he has driven straight trucks for 6.5 years, accumulating 65,000 miles. He holds an operator's license from Ohio. His driving record for the last 3 years shows one crash, for which he was not cited and to which he did not contribute, and one conviction for a moving violation in a CMV; he exceeded the speed limit by 15 mph.

Wladyslaw Gogola

Mr. Gogola, 45, has had amblyopia in his left eye since childhood. The visual acuity in his right eye is 20/20, and in his left eye, 20/200. Following an examination in 2014, his ophthalmologist stated, “With a normal kinetic peripheral field in each eye and normal color vision he has sufficient vision to perform the driving tasks required to operate a commercial vehicle.” Mr. Gogola reported that he has driven straight trucks for five years, accumulating 250,000 miles, and tractor-trailer combinations for nine years, accumulating 765,000 miles. He holds a Class A CDL from Illinois. His driving record for the last 3 years shows two crashes, for which he was not cited and to which he did not contribute, and no convictions for moving violations in a CMV.

Antonio Gomez

Mr. Gomez, 59, has had amblyopia in his right eye since childhood. The visual acuity in his right eye is 20/60, and in his left eye, 20/20. Following an examination in 2015, his optometrist stated, “In my professional opinion, Mr. Gomez has sufficient vision in his left eye to operate a commercial motor vehicle.” Mr. Gomez reported that he has driven straight trucks for 33 years, accumulating 99,000 miles. He holds a Class A CDL from Pennsylvania. His driving record for the last 3 years shows no crashes and no convictions for moving violations in a CMV.

Fred S. Graham

Mr. Graham, 70, has had amblyopia in his left eye since childhood. The visual acuity in his right eye is 20/20, and in his left eye, 20/400. Following an examination in 2014, his ophthalmologist stated, “In my opinion Mr. Graham has sufficient vision to perform the driving tasks to operate a commercial vehicle.” Mr. Graham reported that he has driven straight trucks for three years, accumulating 6,000 miles. He holds an operator's license from Tennessee. His driving record for the last 3 years shows no crashes and no convictions for moving violations in a CMV.

Mark Grenier

Mr. Grenier, 52, has a prosthetic right eye due to a traumatic incident in 1988. The visual acuity in his right eye is no light perception, and in his left eye, 20/20. Following an examination in 2014, his optometrist stated, “It is my medical opinion that Mr. Grenier has sufficient vision in his left eye to operate a commercial vehicle.”

Mr. Grenier reported that he has driven straight trucks for 20 years, accumulating 500,000 miles, and tractor-trailer combinations for 20 years, accumulating 300,000 miles. He holds a Class A CDL from Connecticut. His driving record for the last 3 years shows no crashes and no convictions for moving violations in a CMV.

Jay R. Hendricks

Mr. Hendricks, 53, has had amblyopia in his right eye since birth. The visual acuity in his right eye is 20/100, and in his left eye, 20/20. Following an examination in 2015, his optometrist stated, “Yes, Mr. Hendricks has sufficient vision to perform the driving tasks required to operate a commercial vehicle.” Mr. Hendricks reported that he has driven tractor-trailer combinations for 17 years, accumulating 850,000 miles. He holds a Class A CDL from Florida. His driving record for the last 3 years shows no crashes and no convictions for moving violations in a CMV.

Steven C. Holland

Mr. Holland, 55, has had amblyopia and a macular hole resulting in central scotoma in his right eye since birth. The visual acuity in his right eye is 20/100, and in his left eye, 20/20. Following an examination in 2015 his optometrist stated, “He has a history of amblyopia in the right eye . . . The right eye does have some slight pigmentary changes within the macula and possibly small macular hole explaining the reduction in acuity . . . At this time, I do not see anything that would limit Mr. Holland's ability to operate a commercial vehicle.” Mr. Holland reported that he has driven tractor-trailer combinations for 27 years, accumulating 583,200 miles. He holds a Class A CDL from Oklahoma. His driving record for the last 3 years shows no crashes and no convictions for moving violations in a CMV.

Acquillious Jackson III

Mr. Jackson, 61, has had aphakia and corneal scarring resulting in amblyopia in his left eye since childhood. The visual acuity in his right eye is 20/15, and in his left eye, counting fingers. Following an examination in 2014, his ophthalmologist stated, “In my medical opinion Mr. Jackson has sufficient vision to perform the driving tasks required to operate a commercial vehicle.” Mr. Jackson reported that he has driven buses for 37 years, accumulating 588,744 miles. He holds a Class B CDL from South Carolina. His driving record for the last 3 years shows no crashes and no convictions for moving violations in a CMV.

Jimmy D. Johnson II

Mr. Johnson, 43, has had amblyopia in his right eye since birth. The visual acuity in his right eye is 20/60, and in his left eye, 20/20. Following an examination in 2015, his optometrist stated, “In summary, Mr. Johnson is well adapted to his long-standing amblyopia and, in my medical opinion, has sufficient vision to perform the driving tasks required to operate a commercial vehicle.” Mr. Johnson reported that he has driven straight trucks for 25 years, accumulating 107,500 miles, and tractor-trailer combinations for 15 years, accumulating 162,000 miles. He holds a Class AM CDL from Tennessee. His driving record for the last 3 years shows no crashes and no convictions for moving violations in a CMV.

Bradley J. Kearl

Mr. Kearl, 45, has had congenital glaucoma in his left eye since birth. The visual acuity in his right eye is 20/25, and in his left eye, 20/400. Following an examination in 2015, his ophthalmologist stated, “In my opinion, he has sufficient vision to continue performing the tasks necessary to operate a commercial vehicle.” Mr. Kearl reported that he has driven straight trucks for 21 years, accumulating 10,000 miles, and tractor-trailer combinations for 10 years, accumulating 10,000 miles. He holds a Class A CDL from Utah. His driving record for the last 3 years shows no crashes and no convictions for moving violations in a CMV.

Larry G. Kreke

Mr. Kreke, 61, has complete loss of vision in his left eye due to a traumatic incident during childhood. The visual acuity in his right eye is 20/20, and in his left eye, no light perception. Following an examination in 2015, his optometrist stated, “Larry Kreke is a 61 year old commercial vehicle operator . . . It is my clinical impression that Mr. Kreke can operate the aforementioned machinery as needed without visual restrictions.” Mr. Kreke reported that he has driven straight trucks for 38 years, accumulating 1.7 million miles. He holds a Class AM CDL from Illinois. His driving record for the last 3 years shows no crashes and no convictions for moving violations in a CMV.

Richard A. Lemke

Mr. Lemke, 64, has had amblyopia in his left eye since childhood. The visual acuity in his right eye is 20/20, and in his left eye, 20/50. Following an examination in 2015, his optometrist stated, “I certify that in my medical opinion, Mr Lemke [sic] has sufficient vision to operate a commercial vehicle.” Mr. Lemke reported that he has driven straight trucks for 25 years, accumulating 250,000 miles. He holds an operator's license from Wisconsin. His driving record for the last 3 years shows no crashes and no convictions for moving violations in a CMV.

Lawrence McGowan

Mr. McGowan, 60, has had staphyloma with optic atrophy in his left eye since childhood. The visual acuity in his right eye is 20/30, and in his left eye, counting fingers. Following an examination in 2014, his ophthalmologist stated, “Formal HVF perimetry ordered 11-2014, >160 degrees of horizontal peripheral vision . . . In my opinion, it is safe for him to drive a commercial vehicle [sic].” Mr. McGowan reported that he has driven straight trucks for 39 years, accumulating 585,000 miles, and tractor-trailer combinations for 39 years, accumulating 1.95 million miles. He holds a Class A CDL from Ohio. His driving record for the last 3 years shows no crashes and no convictions for moving violations in a CMV.

James R. Milliken

Mr. Milliken, 64, has had a retinal detachment in his left eye since 1980. The visual acuity in his right eye is 20/15, and in his left eye, light perception. Following an examination in 2015, his optometrist stated, “I certify that in my medical opinion James R. Milliken has sufficient vision to perform the driving tasks required to operate a commercial vehicle.” Mr. Milliken reported that he has driven straight trucks for 10.5 years, accumulating 372,750 miles, and tractor-trailer combinations for 5.5 years, accumulating 115,500 miles. He holds a Class A CDL from Colorado. His driving record for the last 3 years shows one crash, for which he was not cited and to which he did not contribute, and no convictions for moving violations in a CMV.

Christopher P. Mroczka

Mr. Mroczka, 26, has had refractive amblyopia in his right eye since childhood. The visual acuity in his right eye is 20/80, and in his left eye, 20/20. Following an examination in 2015, his optometrist stated, “I have no doubt that Mr. Mroczka's vision is suitable to operate a commercial vehicle.” Mr. Mroczka reported that he has driven straight trucks for 3.5 years, accumulating 350,000 miles, and tractor-trailer combinations for two years, accumulating 600 miles. He holds an operator's license from Maryland. His driving record for the last 3 years shows no crashes and no convictions for moving violations in a CMV.

Gary A. Oster, Jr.

Mr. Oster, 52, has a total cataract with iris synechia in his right eye due to a traumatic incident during childhood. The visual acuity in his right eye is no light perception, and in his left eye, 20/20. Following an examination in 2015, his optometrist stated, “In my opinion Gary A. Oster has sufficient vision to perform all driving tasks required to operate a commercial vehicle.” Mr. Oster reported that he has driven straight trucks for three years, accumulating 112,500 miles, and tractor-trailer combinations for 12.5 years, accumulating 1.1 million miles. He holds a Class A CDL from Oregon. His driving record for the last 3 years shows no crashes and no convictions for moving violations in a CMV.

Mark A. Pleskovitch

Mr. Pleskovitch, 59, has complete loss of vision in his right eye due to a traumatic incident during childhood. The visual acuity in his right eye is no light perception, and in his left eye, 20/20. Following an examination in 2015, his optometrist stated, “Pt. [sic] Mark Pleskovitch has enough vision in his left eye to operate commercial vehical [sic] to my knowledge upon examining his left eye. But, In the end-decision to be made by dept. of transportation.” Mr. Pleskovitch reported that he has driven tractor-trailer combinations for 32 years, accumulating 2.24 million miles. He holds a Class A CDL from Illinois. His driving record for the last 3 years shows no crashes and no convictions for moving violations in a CMV.

Edward J. Puto

Mr. Puto, 54, has an optic nerve injury in his right eye due to a traumatic incident during childhood. The visual acuity in his right eye is light perception, and in his left eye, 20/20. Following an examination in 2015, his optometrist stated, “Patient had eye injury to Right Eye [sic] . . . With correction on may safely operate a commercial motor vehicle.” Mr. Puto reported that he has driven straight trucks for three years, accumulating 75,000 miles, and tractor-trailer combinations for 30 years, accumulating 900,000 miles. He holds a Class A CDL from Connecticut. His driving record for the last 3 years shows no crashes and no convictions for moving violations in a CMV.

Andrew Risner

Mr. Risner, 26, has had amblyopia in his left eye since birth. The visual acuity in his right eye is 20/20, and in his left eye, 20/200. Following an examination in 2014, his optometrist stated, “Pt [sic] demonstrates sufficient vision for commercial vehicle operation.” Mr. Risner reported that he has driven straight trucks for 6 years, accumulating 150,000 miles. He holds an operator's license from Ohio. His driving record for the last 3 years shows no crashes and one conviction for a moving violation in a CMV; he exceeded the speed limit by 16 mph.

Kyle B. Sharp

Mr. Sharp, 36, has had complete loss of vision in his right eye since 2011 due to Neisseria meningitis. The visual acuity in his right eye is 20/20, and in his left eye, no light perception. Following an examination in 2014, his optometrist stated, “It is my understanding that Mr. Kyle Sharp presently operates a commercial vehicle. . . I found no evidence at his vision exam of a progressive type of ocular condition that would adversely effect [sic] his current vision status or performance.” Mr. Sharp reported that he has driven straight trucks for 15 years, accumulating 150,000 miles, and tractor-trailer combinations for 15 years, accumulating 75,000 miles. He holds a Class CA CDL from Michigan. His driving record for the last 3 years shows no crashes and no convictions for moving violations in a CMV.

Francis A. St. Pierre

Mr. St. Pierre, 51, has had amblyopia in his left eye since birth. The visual acuity in his right eye is 20/20, and in his left eye, counting fingers. Following an examination in 2014, his optometrist stated, “It is my medical opinion that Mr. St. Pierre has sufficient vision to operate a vehicle, commercial or otherwise, as his condition is congenital and he has adapted to using his right eye for his good central vision while using both eyes for his peripheral vision.” Mr. St. Pierre reported that he has driven straight trucks for 30 years, accumulating 420,000 miles, and tractor-trailer combinations for 22 years, accumulating 242,000 miles. He holds a Class AMC CDL from New Hampshire. His driving record for the last 3 years shows no crashes and no convictions for moving violations in a CMV.

Sukru Tamirci

Mr. Tamirci, 50, has a cataract, mydriasis, and posterior senechiae in his right eye due to a traumatic incident in 1994. The visual acuity in his right eye is hand motion, and in his left eye, 20/20. Following an examination in 2014, his ophthalmologist stated, “In my medical opinion, he has sufficient vision to perform the driving tasks required to operate a commercial vehicle.” Mr. Tamirci reported that he has driven straight trucks for three years, accumulating 504,000 miles, and buses for seven years, accumulating 910,000 miles. He holds an operator's license from New York. His driving record for the last 3 years shows no crashes and no convictions for moving violations in a CMV.

George F. Treece

Mr. Treece, 59, has had a retinal scar in his left eye since childhood. The visual acuity in his right eye is 20/20, and in his left eye, 20/200. Following an examination in 2015, his optometrist stated, “In my opinion, Mr. Treece has proven historically his ability to operate a commercial vehicle and also demonstrates sufficient vision to perform the driving tasks required to operate a commercial vehicle.” Mr. Treece reported that he has driven straight trucks for 3 years, accumulating 1,500 miles, and tractor-trailer combinations for 17 years, accumulating 476,000 miles. He holds a Class AM CDL from Illinois. His driving record for the last 3 years shows no crashes and no convictions for moving violations in a CMV.

Jeff L. Wheeler

Mr. Wheeler, 50, has had amblyopia in his left eye since birth. The visual acuity in his right eye is 20/20, and in his left eye, 20/50. Following an examination in 2015, his optometrist stated, “I feel that Mr. Wheeler has adequate vision to operate a commercial vehicle and has been doing so for a number of years.” Mr. Wheeler reported that he has driven tractor-trailer combinations for 25 years, accumulating 2.5 million miles. He holds a Class A CDL from Iowa. His driving record for the last 3 years shows no crashes and no convictions for moving violations in a CMV.

III. Public Participation and Request for Comments

FMCSA encourages you to participate by submitting comments and related materials.

Submitting Comments

If you submit a comment, please include the docket number for this notice, indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number FMCSA-2015-0052 in the “Keyword” box, and click “Search. When the new screen appears, click on “Comment Now!” button and type your comment into the text box in the following screen. Choose whether you are submitting your comment as an individual or on behalf of a third party and then submit. . If you submit your comments by mail or hand delivery, submit them in an unbound format, no larger than 8½ by 11 inches, suitable for copying and electronic filing. If you submit comments by mail and would like to know that they reached the facility, please enclose a stamped, self-addressed postcard or envelope.

FMCSA will consider all comments and material received during the comment period and may change this notice based on your comments.

Viewing Comments and Documents

To view comments, as well as documents mentioned in this preamble as being available in the docket, go to http://www.regulations.gov and insert the docket number FMCSA-2015-0052 in the “Keyword” box and click “Search.” Next, click “Open Docket Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

Issued on: June 9, 2015.
Larry W. Minor,
Associate Administrator for Policy.

[FR Doc. 2015-15208 Filed 6-19-15; 8:45 am]

BILLING CODE 4910-EX-P